NATIONAL SCIENCE FOUNDATION

Proposal Review Panel for Materials Research; Notice of Meeting

In accordance with the Federal Advisory Committee Act (Pub. L. 92-463 as amended), the National Science Foundation (NSF) announces the following meeting:

Name and Committee Code: Proposal Review Panel for Materials Research—Partnership for Research and Education in Materials, University of Texas Rio Grande Valley Site Visit (#1203).

Date and Time: April 24, 2017; 8:00 a.m.-6:00 p.m.; April 25, 2017; 8:00 a.m.-12:00 p.m.

Place: University of Texas Rio Grande Valley, 1201 West University Drive, Edinburg, TX 78539-2999.

Type of Meeting: Part-Open.

Contact Person: Dr. Jose Caro, Program Director, Partnership for Research and Education in Materials, PREM. Division of Materials Research, Room 1065, National Science Foundation, 4201 Wilson Boulevard, Arlington, VA 22230, Telephone (703) 292-4914.

Purpose of Meeting: NSF site visit to provide advice and recommendations concerning further NSF support for the Center.

Agenda:

Monday, April 24, 2017

8:00 a.m.-8:15 a.m. Continental Breakfast (Closed)

8:00 a.m.-8:30 a.m. Executive Session for Site Visit Team Only (Closed)

8:30 a.m.-8:45 a.m. Welcome and Overview by Administration

8:45 a.m.-9:30 a.m. PI's Overview of PREM

9:30 a.m.-9:45 a.m. Q&A for PI's and Administrator's Overviews

9:45 a.m.-10:15 a.m. Partner Institutions interactions Q&A

10:15 a.m.-10:30 a.m. Break

10:30 a.m.-12:00 a.m. Research Presentations/Q&A

12:00 p.m.-12:15 p.m. Q&A for Science Presentations

12:15 p.m.-1:15 p.m. Lunch with students and post docs (no faculty).

1:15 p.m.-2:30 p.m. Student Poster Session

2:30 p.m.-3:30 p.m. Facilities Overview and visit (labs)

3:30 p.m.-4:00 p.m. Visiting Team with PREM Management Team (Closed)

4:00 p.m.-5:00 p.m. Executive session—SV Team only (Closed)

5:00 p.m.-5:45 p.m. Q&A SV Team meets with PREM Management Team

5:45 p.m. Adjourn

6:00 p.m. Dinner

Tuesday, April 25, 2017

8:00 a.m.-8:15 a.m. Continental Breakfast.

8:15 a.m.-8:30 a.m. Response to Questions

8:30 a.m.-9:45 a.m. Educational and Outreach Activities

9:45 a.m.-10:00 a.m. Q&A for Educational/Outreach Presentations

10:00 a.m.-11:45 a.m. Executive Session for Site Visit Team only (Closed)

11:45 a.m.-12:00 p.m. NSF Debriefing with PREM PI

12:00 p.m. Working Lunch with PREM PI

Reason for Late Notice: Due to unforeseen scheduling complications and the necessity to proceed with review of the Center.

Reason for Closing: The work being reviewed during closed portions of the site visit will include information of a proprietary or confidential nature, including technical information; financial data, such as salaries and personal information concerning individuals associated with the proposals. These matters are exempt under 5 U.S.C. 552b(c), (4) and (6) of the Government in the Sunshine Act.

Dated: April 18, 2017.
Crystal Robinson,
Committee Management Officer.

[FR Doc. 2017-08102 Filed 4-20-17; 8:45 am]

BILLING CODE 7555-01-P